DEPARTMENT OF COMMERCE

National Oceanic and Atmospheric Administration

RIN 0648-XA907

Endangered and Threatened Species; Recovery Plans

AGENCY: National Marine Fisheries Service, National Oceanic and Atmospheric Administration, Department of Commerce.

ACTION: Notice of availability and notice of public meetings.

SUMMARY: NMFS announces the adoption of a Final Endangered Species Act (ESA) recovery plan for the Southern Oregon/Northern California Coast coho salmon (Oncorhynchus kisutch) Evolutionarily Significant Unit (ESU) (Final Recovery Plan). This ESU includes all naturally spawned coho salmon populations between Punta Gorda, California and Cape Blanco, Oregon, as well as coho salmon produced by three artificial propagation programs: The Cole Rivers Hatchery, Trinity River Hatchery, and Iron Gate Hatchery. As required by the ESA, the Final Recovery Plan contains objective, measurable delisting criteria, site-specific management actions necessary to achieve the plan's goals, and estimates of the time and costs required to implement recovery actions. The Final Recovery Plan is now available. In addition, informative public meetings will be held.

ADDRESSES: Electronic copies of the Final Recovery Plan are available online at: http://www.westcoast.fisheries.noaa.gov/protected_species/salmon_steelhead/recovery_planning_and_implementation/southern_oregon_northern_california_coast/southern_oregon_northern_california_coast_recovery_plan_documents.html.

A CD ROM of the Final Recovery Plan can be obtained by emailing a request to soncc.recovery@noaa.gov with the subject line “CD ROM Request for SONCC coho Salmon Recovery Plan”, by phone at 707-825-5163, or by writing to NMFS California Coastal Area Office, 1655 Heindon Road, Arcata, CA 95519, ATTN: Recovery Coordinator.

FOR FURTHER INFORMATION CONTACT: Julie Weeder, Southern Oregon/Northern California Coast Recovery Coordinator by email at Julie.Weeder@noaa.gov or by phone at 707-825-5168.

SUPPLEMENTARY INFORMATION:

Background

NMFS is responsible for developing and implementing recovery plans for Pacific salmon and steelhead listed under the ESA of 1973, as amended (16 U.S.C. 1531 et seq.). Recovery means that the listed species and their ecosystems are sufficiently restored, and their future secured, to the point that the protections of the ESA are no longer necessary. Section 4(f)(1) of the ESA requires that recovery plans include, to the extent practicable: (1) Objective, measurable criteria which, when met, would result in a determination that the species is no longer threatened or endangered; (2) site-specific management actions necessary to achieve the plan's goals; and (3) estimates of the time required and costs to implement recovery actions.

The ESA requires that NMFS develop and implement recovery plans for the conservation and survival of threatened and endangered species under its jurisdiction, unless it is determined that such plans would not result in the conservation of the species. NMFS designated Southern Oregon/Northern California Coast coho salmon as threatened in the Federal Register on May 6, 1997 (62 FR 24588) and reaffirmed its threatened status on June 28, 2005 (70 FR 37160). NMFS published a Notice of Availability of the Public Draft Recovery Plan (Draft Plan) in the Federal Register on January 5, 2012 (77 FR 476). NMFS held five public meetings to obtain comments on the Draft Plan. In response to multiple requests, the public comment period was extended for an additional 60 days on February 10, 2012 (77 FR 7134). NMFS received extensive comments on the Draft Plan and prepared responses to each comment. The Draft Plan was revised based on the comments received, and this final version now constitutes the Final Recovery Plan for the Evolutionarily Significant Unit of Southern Oregon/Northern California Coast Coho Salmon.

Contents of Plan

The ESA requires that recovery plans incorporate, to the extent practicable: (1) Objective, measurable criteria which, when met, would result in a determination that the species is no longer threatened or endangered; (2) site-specific management actions necessary to achieve the plan's goals; and (3) estimates of the time required and costs to implement recovery actions. The goal of the Final Recovery Plan is to restore threatened SONCC coho salmon to the point where they are again secure, self-sustaining members of their ecosystems and no longer need the protections of the ESA.

The Final Recovery Plan provides background on the natural history of SONCC coho salmon, population trends and the stresses and threats that affect their viability. The Final Recovery Plan lays out a recovery strategy to reduce these stresses and threats which is based on the best available science and includes goals that incorporate objective, measurable criteria which, when met, would result in a determination that the species be removed from the list. The Final Recovery Plan is not regulatory. It presents guidance for use by the general public, government agencies, tribal governments, and other interested parties to assist in the recovery of SONCC coho salmon. The Final Recovery Plan identifies all actions needed to achieve recovery by rebuilding populations and reducing stresses and threats. The strategy for recovery includes a linkage between management actions and an active research and monitoring program intended to fill data gaps and assess effectiveness. The Final Recovery Plan incorporates an adaptive management framework by which recovery actions and other elements will evolve and adapt as information is gained. The Final Recovery Plan also describes NMFS' plan for reviews of the status of the species. The Final Recovery Plan references many of the significant efforts already underway to restore Southern Oregon/Northern California Coast coho salmon access to high quality habitat and to improve degraded habitat, and to reduce the impacts of several activities including fishing and timber harvest.

Conclusion

Section 4(f)(1)(B) of the ESA requires that recovery plans incorporate, to the extent practicable, (1) objective, measurable criteria which, when met, would result in a determination that the species is no longer threatened or endangered; (2) site-specific management actions necessary to achieve the plan's goals; and (3) estimates of the time required and costs to implement recovery actions. NMFS concludes that the Plan meets the requirements of ESA section 4(f) and adopts it as the Recovery Plan for the Southern Oregon/Northern California Coast Evolutionarily Significant Unit of Coho Salmon.

Public Meetings

Public meetings are planned. The dates and locations of meetings can be obtained by contacting Julie Weeder at 707-825-5168 or Julie.Weeder@noaa.gov. Exact locations, dates and times of public meetings will also be posted on the above Web site.

Authority: 16 U.S.C. 1531 et seq.

Dated: September 18, 2014.
Angela Somma,
Chief, Endangered Species Division, Office of Protected Resources, National Marine Fisheries Service.

[FR Doc. 2014-23230 Filed 9-29-14; 8:45 am]

BILLING CODE 3510-22-P